DEPARTMENT OF TRANSPORTATION

Federal Aviation Administration

14 CFR Part 39

[Docket No. 2000-NE-60-AD; Amendment 39-13071; AD 2003-04-22]

RIN 2120-AA64

Airworthiness Directives; Hartzell Propeller Inc. Model HD-E6C-3B/E13890K Propellers

AGENCY: Federal Aviation Administration, DOT.

ACTION: Final rule.

SUMMARY: This amendment adopts a new airworthiness directive (AD), that is applicable to Hartzell Propeller Inc. model HD-E6C-3B/E13890K propellers with certain serial numbers of model D-1199-2 propeller control units (PCU's) installed. This amendment requires initial and repetitive inspections for below-limit propeller flight idle blade angles, and, as a terminating action, removal of the affected PCU's from service and performance of a complete Major Periodic Inspection (overhaul) when the applicable time-since-new or time-since-overhaul limit is reached, or when any flight idle blade angle is below limits. This amendment is prompted by a review by Hartzell Propeller Inc. of the model D-1199-2 PCU overhaul procedures, that revealed several dimensional checks and a nondestructive evaluation were not performed on certain serial number PCU's during a Major Periodic Inspection (overhaul). The overhaul procedures are required to comply with the Airworthiness Limitation PCU Major Periodic Inspection (overhaul) directive. The actions specified by this AD are intended to prevent below-limit flight idle propeller blade angles that, if not corrected, could result in degraded aircraft performance and control.

DATES: Effective April 4, 2003. The incorporation by reference of certain publications listed in the regulations is approved by the Director of the Federal Register as of April 4, 2003.

ADDRESSES: The service information referenced in this AD may be obtained from Hartzell Propeller Inc. Technical Publications Department, One Propeller Place, Piqua, OH 45356; telephone (937) 778-4200; fax (937) 778-4391. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Tomaso DiPaolo, Aerospace Engineer, Chicago Aircraft Certification Office, FAA, Small Airplane Directorate, 2300 East Devon Avenue, Des Plaines, IL 60018; telephone (847) 294-7031, fax (847) 294-7834.

SUPPLEMENTARY INFORMATION: A proposal to amend part 39 of the Federal Aviation Regulations (14 CFR part 39) to include an AD that is applicable to Hartzell Propeller Inc. model HD-E6C-3B/E13890K propellers with certain serial numbers of model D-1199-2 PCU's installed was published in the Federal Register on October 18, 2002 (67 FR 64322). That action proposed to require initial and repetitive inspections for below-limit propeller flight idle blade angles, and, as a terminating action, removal of the affected PCU's from service and performance of a complete Major Periodic Inspection (overhaul) when the applicable time-since-new or time-since-overhaul limit is reached, or when any flight idle blade angle is below limits in accordance with Hartzell Service Bulletin No. (SB) HD-SB-61-025, dated November 7, 2002, or SB No. HD-SB-61-025, Revision 1, dated December 20, 2000.

Comments

Interested persons have been afforded an opportunity to participate in the making of this amendment. No comments were received on the proposal or the FAA's determination of the cost to the public. The FAA has determined that air safety and the public interest require the adoption of the rule as proposed.

Economic Analysis

There are approximately 78 Hartzell Propeller Inc. model D-1199-2 PCU's of the affected design in the worldwide fleet. The FAA estimates that 50 PCU's installed on airplanes of U.S. registry would be affected by this AD. The FAA also estimates that it would take approximately 1.5 work hours per propeller to perform the initial inspections, 25 work hours per propeller to perform the PCU replacements, and that the average labor rate is $60 per work hour. Required parts would cost approximately $7,321 per propeller. Based on these figures, the total cost of initial inspections of this AD to U.S. operators is estimated to be $4,500, and the total cost of replacement of the affected PCU's to U.S. operators is estimated to be $441,050.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) Is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-04-22 Hartzell Propeller Inc.: Amendment 39-13071. Docket No. 2000-NE-60-AD.

Applicability: This airworthiness directive (AD) is applicable to Hartzell Propeller Inc. model HD-E6C-3B/E13890K propellers with certain serial numbers of model D-1199-2 Propeller Control Units (PCU's) installed, as listed in Table 1 of this AD. These propellers are installed on, but not limited to Fairchild Dornier GmbH 328-100 series airplanes.

Note 1: This airworthiness directive (AD) applies to each propeller identified in the preceding applicability provision, regardless of whether it has been modified, altered, or repaired in the area subject to the requirements of this AD. For propellers that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Compliance with this AD is required as indicated, unless already done.

To prevent below-limit flight idle propeller blade angles that, if not corrected, could result in degraded aircraft performance and control, do the following:

Initial and Repetitive Inspection Requirements

(a) On PCU's listed by serial number in the following Table 1 of this AD, at the next “2A” maintenance check, but no later than 600 hours time-in-service from the effective date of this AD, perform an initial flight idle blade angle inspection, in accordance with paragraph 2A. of the Accomplishment Instructions of Hartzell Service Bulletin (SB) No. HD-SB-61-025, Revision 1, dated December 20, 2000. Table 1 follows:

Table 1.—Affected Serial Numbers, Model D-1199-2 PCU's
PCU-A-29 | PCU-A-EFS140 | PCU-A-EFS194 | PCU-A-EFS234 | PCU-A-EFS284
PCU-A-31 | PCU-A-EFS141 | PCU-A-EFS204 | PCU-A-EFS236 | PCU-A-EFS290
PCU-A-44 | PCU-A-EFS144 | PCU-A-EFS207 | PCU-A-EFS239 | PCU-A-EFS292
PCU-A-46 | PCU-A-EFS152 | PCU-A-EFS208 | PCU-A-EFS242 | PCU-A-EFS293
PCU-A-53 | PCU-A-EFS155 | PCU-A-EFS210 | PCU-A-EFS244 | PCU-A-EFS294
PCU-A-54 | PCU-A-EFS158 | PCU-A-EFS212 | PCU-A-EFS245 | PCU-A-EFS302
PCU-A-57 | PCU-A-EFS160 | PCU-A-EFS213 | PCU-A-EFS246 | PCU-A-EFS307
PCU-A-58 | PCU-A-EFS162 | PCU-A-EFS214 | PCU-A-EFS249 | PCU-A-EFS319
PCU-A-59 | PCU-A-EFS165 | PCU-A-EFS218 | PCU-A-EFS250 | PCU-A-EFS320
PCU-A-EFS101 | PCU-A-EFS182 | PCU-A-EFS220 | PCU-A-EFS257 | PCU-A-EFS326
PCU-A-EFS106 | PCU-A-EFS184 | PCU-A-EFS223 | PCU-A-EFS261 | PCU-A-EFS328
PCU-A-EFS109 | PCU-A-EFS185 | PCU-A-EFS224 | PCU-A-EFS266 | PCU-A-EFS330
PCU-A-EFS110 | PCU-A-EFS187 | PCU-A-EFS225 | PCU-A-EFS268 | PCU-A-EFS340
PCU-A-EFS111 | PCU-A-EFS188 | PCU-A-EFS226 | PCU-A-EFS269 | PCU-A-EFS347
PCU-A-EFS120 | PCU-A-EFS192 | PCU-A-EFS228 | PCU-A-EFS271
PCU-A-EFS122 | PCU-A-EFS193 | PCU-A-EFS233 | PCU-A-EFS279

(b) Remove PCU's that fail the inspection in paragraph (a) of this AD and perform a Major Periodic Inspection (overhaul), in accordance with paragraphs 2.B. and 2.C. of the Accomplishment Instructions of Hartzell SB No. HD-SB-61-025, Revision 1, dated December 20, 2000, or replace with a serviceable PCU.

(c) Thereafter, at each successive “4A” maintenance check, but not to exceed 1,200 hours time-in-service, perform the flight idle blade angle inspection until the limiting time-since-overhaul or time-since-new is reached, as specified in Hartzell SB HD-SB-61-025, Revision 1, dated December 20, 2000.

(d) Remove PCU's that fail the inspection in paragraph (c) of this AD and perform a Major Periodic Inspection (overhaul), in accordance with paragraphs 2.B. and 2.C. of Hartzell SB No. HD-SB-61-025, Revision 1, dated December 20, 2000, or replace with a serviceable PCU.

(e) Once the limiting time-since-overhaul or time-since-new specified in Hartzell SB HD-SB-61-025, Revision 1, dated December 20, 2000 is reached, remove the PCU from service and perform a Major Periodic Inspection (overhaul), in accordance with paragraphs 2.B. and 2.C. of Hartzell SB HD-SB-61-025, Revision 1, dated December 20, 2000.

Optional Terminating Action

(f) Replacement with a serviceable PCU is terminating action for the repetitive inspections specified in paragraph (c) of this AD. For the purpose of this AD, a serviceable PCU is one that is not listed in Table 1 of this AD, or is one listed in Table 1 of this AD that has undergone a Major Periodic Inspection (overhaul) after November 17, 2000, in accordance with paragraphs 2.B. and 2.C. of Hartzell SB HD-SB-61-025, Revision 1, dated December 20, 2000.

Alternative Methods of Compliance

(g) An alternative method of compliance or adjustment of the compliance time that provides an acceptable level of safety may be used if approved by the Manager, Chicago Aircraft Certification Office (ACO). An alternative method of compliance to Hartzell SB HD-SB-61-025, Revision 1, dated December 20, 2000, is compliance with Hartzell SB HD-SB-61-025, dated November 17, 2000. Operators must submit their requests through an appropriate FAA Principal Maintenance Inspector, who may add comments and then send it to the Manager, Chicago ACO.

Note 2: Information concerning the existence of approved alternative methods of compliance with this airworthiness directive, if any, may be obtained from the ACO.

Special Flight Permits

(h) Special flight permits may be issued in accordance with §§ 21.197 and 21.199 of the Federal Aviation Regulations (14 CFR 21.197 and 21.199) to operate the airplane to a location where the requirements of this AD can be done.

Documents That Have Been Incorporated by Reference

(i) The inspections must be done in accordance with Hartzell Propeller Inc. Service Bulletin HD-SB-61-025, Revision 1, dated December 20, 2000. This incorporation by reference was approved by the Director of the Federal Register in accordance with 5 U.S.C. 552(a) and 1 CFR part 51. Copies may be obtained from Hartzell Propeller Inc. Technical Publications Department, One Propeller Place, Piqua, OH 45356; telephone (937) 778-4200; fax (937) 778-4391. Copies may be inspected at the FAA, New England Region, Office of the Regional Counsel, 12 New England Executive Park, Burlington, MA; or at the Office of the Federal Register, 800 North Capitol Street, NW., suite 700, Washington, DC.

Effective Date

(j) This amendment becomes effective on April 4, 2003.

Issued in Burlington, Massachusetts, on February 19, 2003.
Jay J. Pardee,
Manager, Engine and Propeller Directorate, Aircraft Certification Service.

[FR Doc. 03-4483 Filed 2-27-03; 8:45 am]

BILLING CODE 4910-13-P